DEPARTMENT OF COMMERCE

Bureau of Economic Analysis

Agency Information Collection Activities; Submission to the Office of Management and Budget (OMB) for Review and Approval; Comment Request; Expenditures Incurred by Recipients of Biomedical Research and Development Awards From the National Institutes of Health (NIH)

AGENCY: Bureau of Economic Analysis (BEA), Commerce.

ACTION: Notice of information collection, request for comment.

SUMMARY: The Department of Commerce, in accordance with the Paperwork Reduction Act of 1995 (PRA), invites the general public and other Federal agencies to comment on proposed, and continuing information collections, which helps us access the impact of our information collection requirements and minimize the public's reporting burden. The purpose of this notice is to allow for 60 days of public comment preceding submission of the collection to OMB.

DATES: To ensure consideration, comments regarding this proposed information collection must be received on or before May 22, 2023.

ADDRESSES: Interested persons are invited to submit written comments by mail to Jennifer A. Bennett, Chief, Durable Goods and Equipment Section, Industry Economics Division, Bureau of Economic Analysis, 4600 Silver Hill Road, BE-61, Washington DC 20233, or by email to brdpi@bea.gov or PRAcomments@doc.gov. Please reference OMB Control Number 0608-0069 in the subject line of your comments. Do not submit Confidential Business Information or otherwise sensitive or protected information.

FOR FURTHER INFORMATION CONTACT: Requests for additional information or specific questions related to collection activities should be directed to Jennifer A. Bennett, Chief, Durable Goods and Equipment Section, Industry Economics Division (BE-61), Bureau of Economic Analysis, U.S. Department of Commerce, 4600 Silver Hill Rd., Washington, DC 20233; (301-278-9769); or via email at brdpi@bea.gov.

SUPPLEMENTARY INFORMATION:

I. Abstract

The survey obtains the distribution of expenditures incurred by recipients of biomedical research awards from NIH and will provide information on how the NIH award amounts are expended across several major categories. This information, along with wage and price data from other published sources, will be used to generate the Biomedical Research and Development Price Index (BRDPI). The BRDPI is an index of prices paid for the labor, supplies, equipment, and other inputs required to perform the biomedical research the NIH supports in its intramural laboratories and through its awards to extramural organizations. The BRDPI is a vital tool for planning the NIH research budget and analyzing future NIH programs. A survey of award recipients is currently the only means for updating the expenditure category weights that are used to prepare the BRDPI. BEA develops the index for NIH under a reimbursable interagency agreement.

This survey will be voluntary. The authority for NIH to collect information for the BRDPI is provided in 45 CFR 75.302 and 75.308. These sections set forth explicit standards for grantees in establishing and maintaining financial management systems and records. Additional authority exists under 45 CFR 75.361 and 75.364, which provide for the retention of such records as well as NIH access to such records.

BEA will administer the survey and analyze the survey results on behalf of NIH, through a reimbursable interagency agreement between the two agencies. The authority for the NIH to reimburse BEA for this collection is the Economy Act (31 U.S.C. 1535).

BEA possesses programmatic authority to conduct this collection under 15 U.S.C. 1525 (first paragraph). NIH's support for this research is consistent with its duties and authority under 42 U.S.C. 282.

The information provided by the respondents will be held confidential and be used for exclusively statistical purposes. This pledge of confidentiality is made under the Confidential Information Protection and Statistical Efficiency Act of 2018 (CIPSEA) (44 U.S.C. 3572). This section provides that “data or information acquired by an agency under a pledge of confidentiality and for exclusively statistical purposes shall be used by officers, employees, or agents of the agency exclusively for statistical purposes. Data or information acquired by an agency under a pledge of confidentiality for exclusively statistical purposes shall not be disclosed by an agency in identifiable form, for any use other than an exclusively statistical purpose, except with the informed consent of the respondent.”

Responses will be kept confidential and will not be disclosed in identifiable form to anyone, other than employees or agents of BEA or agents of NIH, without prior written permission of the person filing the report. By law, each employee as well as each agent is subject to a jail term of up to 5 years, a fine of up to $250,000, or both for disclosing to the public any identifiable information that is reported about a business or institution.

Section 515 of the Treasury and General Government Appropriations Act for FY2001 (Pub. L. 106-554) (the Information Quality Guidelines) applies to this survey. The collection and use of this information comply with all applicable information quality guidelines, i.e., those of the Office of Management and Budget (OMB), DOC, BEA, and NIH.

II. Method of Collection

A survey with a cover letter that includes a brief description of, and rationale for, the survey will be sent by email to potential respondents by the first week of August 2023, 2024, and 2025. A report of the respondent's expenditures of the NIH award amounts (including NIH awards received as a sub-recipient from another institution and following the proposed format for expenditure categories included with the survey form) will be requested to be completed and submitted online no later than December 8 of each survey year, which in most years will be approximately 120 days after mailing. Survey respondents will be selected based on award levels, which determine the weight of the respondent in the BRDPI. Potential respondents will include (1) The top 100 organizations in total awards, which account for about 76 percent of total awards; (2) 40 additional organizations that are not primarily in the “Research and Development (R&D) contracts” category; and (3) 10 additional organizations that are primarily in the “R&D contracts” category.

III. Data

OMB Control Number: 0608-0069.

Form Number: None.

Type of Review: Regular submission, extension of current information collection.

Affected Public: Universities or other organizations that are NIH award recipients.

Estimated Number of Respondents: 150.

Estimated Time per Response: 16 hours but may vary among respondents because of differences in institution structure, size, and complexity.

Estimated Total Annual Burden Hours: 2,400 hours.

Estimated Total Annual Cost to Public: $0.

Respondent's Obligation: Voluntary

Legal Authority: 45 CFR 75.302, 75.308, 75.361, and 75.364; 15 U.S.C. 1525; 42 U.S.C. 282.

IV. Request for Comments

We are soliciting comments to permit BEA to: (a) Evaluate whether the proposed information collection is necessary for the proper functions of the NIH, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary of Economic Affairs, Commerce Department.

[FR Doc. 2023-05771 Filed 3-20-23; 8:45 am]

BILLING CODE 3510-06-P